DEPARTMENT OF THE INTERIOR

Bureau of Reclamation

[RR02800000, RX.18527914.2050100, 15XR0687ND]

Notice of Intent To Prepare a Recirculated Draft Environmental Impact Report/Supplemental Draft Environmental Impact Statement to the Draft Environmental Impact Statement on the Bay Delta Habitat Conservation Plan and Natural Community Conservation Plan for the Sacramento-San Joaquin Delta, California

AGENCY: Bureau of Reclamation, Interior.

ACTION: Notice.

SUMMARY: The Bureau of Reclamation and the California Department of Water Resources intend to prepare a partially Recirculated Draft Environmental Impact Report/Supplemental Draft Environmental Impact Statement (RDEIR/SDEIS) on the Draft Bay Delta Conservation Plan and Natural Community Conservation Plan (BDCP, or the Plan). The RDEIR/SDEIS will describe and analyze refinement of the resource area analyses, alternatives, and actions, including additional alternatives that describe conveyance alternatives that do not contain all the elements of a Habitat Conservation Plan/Natural Communities Conservation Plan that are described in the previously circulated Draft Environmental Impact Report/Environmental Impact Statement (EIR/EIS).

FOR FURTHER INFORMATION CONTACT: Ms. Michelle Banonis, Bureau of Reclamation, (916) 930-5676.

SUPPLEMENTARY INFORMATION:

Background

On January 24, 2008, the U.S. Fish and Wildlife Service (USFWS) and National Marine Fisheries Service (NMFS) issued a Notice of Intent (NOI) to prepare an EIS on the BDCP (73 FR 4178). The NOI was re-issued on April 15, 2008, to include the Bureau of Reclamation (Reclamation) as a co-lead Federal agency, update the status of the planning process, and provide updated information related to scoping meetings (73 FR 20326). The April 15, 2008, NOI identified scoping meeting locations and stated that written comments would be accepted until May 30, 2008. Additional information was later developed to describe the proposed BDCP, and subsequent scoping activities were initiated on February 13, 2009, with the publication of a revised NOI (74 FR 7257). The NOI identified scoping meeting locations and stated that written comments would be accepted until May 14, 2009.

In 2008, ten public scoping meetings were held throughout California. In spring 2009, a summary update was produced and distributed about the development of the Plan to interested members of the public, including details of individual elements of the plan (referred to in the Plan as “conservation measures”) that were being considered as part of the conservation strategy. Ten additional public scoping meetings were then held throughout California, seeking input about the scope of covered activities and potential alternatives to the proposed action.

In December 2010, the California Natural Resources Agency disseminated to the public a summary of the BDCP, its status, and a list of outstanding issues. In 2011 and 2012, public meetings continued in Sacramento, California, to update stakeholders and the public on elements of the draft BDCP and EIR/EIS that were being developed.

On December 13, 2013, the Draft BDCP and associated Draft EIR/EIS were released to the public and a 120-day public comment period was opened through notification in the Federal Register (78 FR 75939). That notice described the proposed action and a reasonable range of alternatives. In response to requests from the public, the comment period was extended for an additional 60 days and closed on June 13, 2014 (79 FR 17135; March 27, 2014). A Draft Implementing Agreement was also made available to the public on May 30, 2014, for a 60-day review and comment period, which closed on July 29, 2014. The comment period of the Draft EIR/EIS was also extended to the later date. All draft documents are available at www.baydeltaconservationplan.com.

As a result of considering comments on the Draft BDCP, Draft EIR/EIS, and Draft Implementing Agreement, Reclamation and the California Department of Water Resources have proposed three additional conveyance alternatives for analysis in the RDEIR/SDEIR. Each of these alternatives contains fewer Conservation Measures than the conveyance alternatives circulated in the Draft EIS/EIR. Specifically, the new alternatives no longer contain the following Conservation Measures: CM-2 Yolo Bypass Fisheries Enhancement; CM-5 Seasonally Inundated Floodplain Restoration; CM-8 Grassland Natural Community Restoration; CM-13 Invasive Aquatic Vegetation Control; CM-14 Stockton Deep Water Ship Channel Dissolved Oxygen Levels; CM-17 Illegal Harvest Reduction; CM-18 Conservation Hatcheries; CM-19 Urban Stormwater Treatment; CM-20 Recreational Users Invasive Species Program; and CM-21 Non-project Diversions. The new alternatives contain modified versions of the following Conservation Measures: CM-3 Natural Communities Protection and Restoration; CM-4 Tidal Natural Communities Restoration; CM-6 Channel Margin Enhancement; CM-7 Riparian Natural Community Restoration; CM-9 Vernal Pool and Alkali Seasonal Wetland Complex Restoration; CM-10 Nontidal Marsh Restoration; CM-11 Natural Communities Enhancement and Management; CM-12 Methylmercury Management; CM-15 Localized Reduction of Predatory Fishes; and CM-16 Non-Physical Fish Barriers. The new alternatives are not structured as a Habitat Conservation Plan/Natural Communities Conservation Plan but are structured to achieve compliance with the Federal Endangered Species Act through consultation under Section 7 and the California Endangered Species Act through the incidental take permit process under Section 2081(b) of the California Fish & Game Code.

DWR has identified one of the new alternatives, Alternative 4A, as their proposed project. Alternative 4A will consist of a water conveyance facility with three intakes, habitat restoration measures necessary to minimize or avoid project effects, and the previously described Conservation Measures. Alternative 4A is proposed by DWR to make physical and operational improvements to the State Water Project system in the Delta necessary to restore and protect ecosystem health, water supplies of the SWP and Central Valley Project south-of-Delta, and water quality within a stable regulatory framework, consistent with statutory and contractual obligations.

The RDEIR/SDEIS will also analyze the impacts for two additional alternatives: Alternative 2D, which will consist of a water conveyance facility with five intakes, and Alternative 5A, which will consist of a water conveyance facility with one intake. Both of these alternatives will contain the habitat restoration measures necessary to minimize or avoid project effects, and the previously described Conservation Measures listed above. In addition, the RDEIR/SDEIR will describe and analyze project modifications and refinement of the resource area analyses, alternatives, and actions. Reclamation will be the Federal lead agency and NMFS, USFWS, and the U.S. Army Corps of Engineers, by virtue of their regulatory review requirements, will be cooperating agencies for the RDEIR/SDEIR. All other entities identified as Cooperating Agencies through prior agreements will retain their status for the RDEIR/SDEIR.

If one of these additional alternatives is selected as the preferred alternative, it would be analyzed through the interagency consultation process under Section 7 of the Federal Endangered Species Act and the California Endangered Species Act through Section 2081(b) of the California Fish & Game Code. Further, the RDEIR/SDEIS will evaluate alternatives to support a determination of the Least Environmentally Damaging Practicable Alternative by the U.S. Army Corps of Engineers. The RDEIR/SDEIS is being prepared under the National Environmental Policy Act (NEPA) and California Environmental Quality Act. Based on project revisions and in consideration of comments received on the Draft BDCP, Draft EIR/EIS, and Draft Implementing Agreement, the State and Federal lead agencies recognize that additional information is appropriate to address comments and to enhance the environmental analysis. Council on Environmental Quality regulations for implementing NEPA (40 CFR 1502.9(c)) do not require any additional scoping for a supplement to a Draft EIS, and the lead agencies are not proposing any scoping process for this RDEIR/SDEIS in addition to the scoping that has already been done for the draft EIR/EIS as described above.

For further background information, see the December 13, 2013 Federal Register notice (78 FR 75939).

Dated: May 22, 2015.
Pablo R. Arroyave,
Deputy Regional Director, Mid-Pacific Region.

[FR Doc. 2015-14649 Filed 6-12-15; 8:45 am]

BILLING CODE 4332-90-P